DEPARTMENT OF HEALTH AND HUMAN SERVICES

Health Resources and Services Administration

Notice of Availability of Final Policy Document

AGENCY: Health Resources and Services Administration (HRSA), HHS.

ACTION: Final Agency guidance and response to public comments.

SUMMARY: On January 27, 2014, HRSA published Policy Information Notice (PIN) 2014-01 to convey and clarify statutory and regulatory governance requirements for section 330-funded health centers and look-alikes. The PIN, “Health Center Program Governance,” and HRSA's “Comments and Response on Draft PIN: Health Center Program Governance” are available on the Internet at http://www.bphc.hrsa.gov/policiesregulations/policies/pin201401.html, and constitutes final agency guidance.

DATES: The effective date of this final agency guidance was January 27, 2014.

FOR FURTHER INFORMATION CONTACT: For questions regarding this notice, please contact the Office of Policy and Program Development, Bureau of Primary Health Care, HRSA, at BPHCPolicy@hrsa.gov.

SUPPLEMENTARY INFORMATION: HHS' Health Resources and Services Administration (HRSA) provides grants to eligible health centers under section 330 of the Public Health Service Act to support the delivery of preventive and primary care services to medically underserved communities and vulnerable populations. In 2012, grants helped fund more than 1,200 health center grantees that provided services at nearly 9,000 health care delivery sites and served more than 21 million people. There are also over 100 organizations known as Federally Qualified Health Center (FQHC) look-alikes (look-alikes). As described in section 1861(aa)(4) and section 1905(l)(2)(B) of the Social Security Act, look-alikes do not receive federal funding under section 330 of the PHS Act; however, to receive the look-alike designation and associated FQHC benefits, look-alikes must meet the statutory, regulatory, and policy requirements for health centers under section 330.

The purpose of this PIN is to: (a) Convey and clarify statutory and regulatory requirements regarding the structure and functioning of governing boards for all Health Center Program grantees (e.g., section 330(e), (g), (h), and/or (i) grantees) and look-alikes; (b) provide clarification regarding board requirements for public centers under co-applicant arrangements, including public centers funded or designated solely under sections 330(g), 330(h), and/or 330(i) to serve special populations; and (c) outline the eligibility and qualifying requirements for HRSA approval of a governance waiver for the 51 percent patient majority governance requirement for eligible section 330 grantees and look-alikes. This PIN also establishes HRSA policy that eliminates the monthly meeting requirement from waiver consideration.

On August 20, 2009, HRSA made the draft PIN, “Health Center Governance Requirements and Expectations,” available for public comment. HRSA also published a notice in the Federal Register of September 18, 2009, requesting comments on this draft PIN. Fifty-one parties, including both individuals and groups, submitted a total of 251 comments regarding the draft PIN. After review and careful consideration of all comments received, HRSA has amended the PIN to incorporate certain recommendations from the public. The final PIN reflects these changes.

In addition to making the final PIN available on HRSA's Web site, HRSA is also posting HRSA's “Comments and Response on Draft PIN: Health Center Program Governance.” The purpose of this document is to summarize the major comments received and describe HRSA's response, including any corresponding changes made to the PIN. Where comments did not result in a revision to the PIN, explanations are provided.

Dated: March 28, 2014.
Mary K. Wakefield,
Administrator.

[FR Doc. 2014-08080 Filed 4-10-14; 8:45 am]

BILLING CODE 4165-15-P